DEPARTMENT OF THE INTERIOR

Bureau of Land Management

[LLNVB0l000.L71220000.EX0000.LVTFF1906690.19X MO 4500144046]

Notice of Intent To Prepare an Environmental Impact Statement for the Proposed Gibellini Project, Eureka County, Nevada

AGENCY: Bureau of Land Management, Interior.

ACTION: Notice.

SUMMARY: In compliance with the National Environmental Policy Act of 1969, as amended (NEPA), and the Federal Land Policy and Management Act of 1976 (FLPMA), as amended, the Bureau of Land Management (BLM) Mount Lewis Field Office, Battle Mountain, Nevada, intends to prepare an Environmental Impact Statement (EIS) to analyze the potential impacts of approving the proposed Nevada Vanadium Company, Gibellini Project, in Eureka County, Nevada. This notice announces the beginning of the scoping process to solicit public comments and identify issues and alternatives; it also serves to initiate public consultation, as required, under the National Historic Preservation Act (NHPA).

DATES: This notice initiates the public scoping process for the EIS. Comments on issues may be submitted in writing until August 13, 2020. The date(s) and location(s) of any scoping meetings will be announced at least 15 days in advance through local media and newspapers and on the BLM website at: https://www.blm.gov/office/battle-mountain-district-office. In order to be considered during the preparation of the Draft EIS, all comments must be received prior to the close of the 30-day scoping period or 15 days after the last public meeting, whichever is later. The BLM will provide additional opportunities for public participation upon publication of the Draft EIS.

ADDRESSES: You may submit comments related to the proposed Gibellini Project by any of the following methods:

• Website: https://go.usa.gov/xfCHh.

• Email: BLM_NV_BMDO_MLFO_GibelliniEIS@blm.gov.

• Fax: (775) 635-4034.

• Mail: BLM Mount Lewis Field Office, Attn: Gibellini Project, 50 Bastian Road, Battle Mountain, NV 89820.

Documents pertinent to this proposal may be examined at the Mount Lewis Field Office.

FOR FURTHER INFORMATION CONTACT: Scott Distel, Project Manager, telephone: (775) 635-4093; address: 50 Bastian Road, Battle Mountain, Nevada, 89820; email: sdistel@blm.gov. Contact Mr. Distel if you wish to add your name to our mailing list. Persons who use a telecommunications device for the deaf (TDD) may call the Federal Relay Service (FRS) at 1-800-877-8339 to contact the above individual during normal business hours. The FRS is available 24 hours per day, 7 days per week, to leave a message or question with the above individual. You will receive a reply during normal business hours.

SUPPLEMENTARY INFORMATION: Nevada Vanadium Company (NVC) proposes to construct, operate, reclaim, and close an open pit, heap leach, vanadium mining operation known as the Gibellini Project. The proposed project is in the southern extent of the Fish Creek Range on 6,456 acres of federal lands administered by the BLM in Eureka County, Nevada. The proposed project area is approximately 27 miles southeast of Eureka, Nevada, and is accessed from Eureka by traveling approximately 10 miles south on U.S. Route 50 and turning south on State Route 379 for approximately 8 miles and turning southwest on Fish Creek Ranch Road for approximately 7 miles.

The proposed project area has been prospected for vanadium and manganese since the 1940s, when Union Carbide explored the area for vanadium to support U.S. steel production. The Final List of Critical Minerals published on May 18, 2018 (83 FR 23295) includes vanadium, which has been recognized as a critical mineral due to its strategic importance in steel manufacturing, aerospace applications, and grid scale energy storage. As there is currently no primary domestic production of vanadium, the United States is dependent on foreign sources of vanadium; this creates a strategic vulnerability in the event of supply disruptions for this key mineral. The Gibellini Project would produce nearly 10 million pounds of vanadium annually, which would represent approximately 50% of U.S. demand, making the project a significant domestic contributor.

The project consists of construction and operation of an open pit mining operation and heap leach process facility to extract and recover vanadium and minor amounts of uranium as a secondary product; the anticipated mine life is approximately 7 years. The project would commence in 2021. Reclamation and site closure activities would require approximately 4 years to complete. Post-closure monitoring is estimated to take an additional 30 years. The proposed project includes mineral exploration activities in the project area.

Approximately 3.3 million tons of material would be mined annually. Mining and crushing would occur up to 24 hours per day, 7 days per week. NVC would employ up to 120 employees for the construction of the proposed Gibellini Project. During mine operations, there would be up to 120 employees with approximately 30 employees on-site at any one time, including contractors.

The primary facilities associated with the Gibellini Project Plan of Operations are an open pit, rock disposal area, mine office and facilities, crushing facilities and stockpile, heap leach pad, process facility, various process and makeup water ponds, borrow areas, and mine and access roads. The approximate 6,456-acre project area and would include approximately 806 acres of disturbance and includes all project components (e.g., mine facilities, access roads, pipelines) and associated buffer areas.

The primary components associated with the proposed Gibellini Project include the following:

• Construction and operation of mine facilities to support mining operations.

• Development of an open pit mine approximately 2,410 feet × 1,560 feet and an approximate maximum depth of 280 feet.

• Construction of a rock disposal area to accommodate permanent storage of approximately 2.5 million tons over the mine life with an approximate height of 125 feet.

• Construction and operation of mined ore crushing facilities and stockpile for ore processing.

• Construction and operation of a heap leach facility where vanadium would be leached out of the ore by a sulfuric acid solution as it percolates through the stacked crushed ore material. Minor amounts of uranium, a secondary product of vanadium processing, would also be leached into the solution. Even though the uranium concentrations in the ore are very low, the process for concentrating vanadium would also concentrate the minor amounts of uranium contained in the ore.

• Construction and operation of processing facilities designed to extract and recover vanadium and uranium. The processing facilities would include a processing facility, ancillary facilities, process offices and laboratory, septic tank and leach field, and a pond system.

• Development of various ponds to support ore processing and mine operations that would work together to keep process solution and incident stormwater fully contained within the zero-discharge process solution system.

• Construction and operation of a stormwater management system that would divert stormwater away from mining and processing facilities.

• Development of a borrow area for durable rhyolite rock material, which would be used for overliner, riprap, roads, and infrastructure, was identified from outcrops located approximately one mile to the southeast of the mine site.

• Development of mine access roads including haul, secondary, and general mine roads. The project includes upgrades to approximately 7 miles of the Fish Creek Ranch Road for mine access from State Route 379.

• Construction and operation of power transmission lines (approximately 3.6 miles) that would tie into the 69-kilovolt (kV) power line that currently provides power to the Pan Mine (the Pan Line). The 24.9-kV Gibellini Project power line would extend to the proposed project area and would include a substation in the project area. An additional line would power the water pumps near Fish Creek Ranch.

• Development of mine water resource, which would be supplied by the Fish Creek Ranch irrigation system and pumped from a 15,000-gallon water collection tank south of the ranch to the project area via an approximately 6.25-mile water pipeline. The estimated water use for the project is approximately 500 gallons per minute (gpm) 24 hours per day, 365 days per year for mine use.

• Development of mineral exploration activities, including access roads, drill pads, sumps, trenches, surface sampling, bulk sampling, staging areas, and monitor wells, which would total approximately 46 acres of disturbance in the project area. Exact locations would be identified during plan implementation.

Reclamation of disturbed areas resulting from mining operations would be completed in accordance with BLM and Nevada Division of Environmental Protection regulations. Reclamation activities proposed in the Plan of Operations include the following:

• Drill hole plugging;

• regrading and reshaping of topography to the approximate original contour;

• wildlife habitat rehabilitation;

• revegetation;

• removal or stabilization of buildings, structures, and support facilities;

• returning of existing roads in project area to pre-project conditions;

• recontouring or regrading of all other mine-related roads and safety berms to approximate original contour; and

• isolation, removal, and/or control of acid-forming, toxic, or deleterious materials.

The purpose of the public scoping process is to identify relevant issues that will influence the scope of the environmental analysis, including alternatives, and guide the process for developing the EIS. The BLM has identified preliminary issues associated with the project: (1) Closure of the heap leach facility; (2) potential impacts to greater sage-grouse, a BLM sensitive species; (3) potential impacts to visual resources; (4) potential impacts to wildlife habitat; (5) potential impacts to surface and groundwater resources; and (6) potential impacts to cultural resources eligible under the National Register of Historic Places.

The BLM will use and coordinate the NEPA scoping process to help fulfill the public involvement process under the NHPA (54 U.S.C. 306108) as provided in 42 CFR 800.2(d)(3). The information about historic and cultural resources within the area potentially affected by the proposed project will assist the BLM in identifying and evaluating impacts to such resources in the context of both NEPA and the NHPA.

The BLM will consult with Native American tribes on a government-to-government basis in accordance with Executive Order 13175 and other policies. Tribal concerns, including impacts on Indian trust assets and potential impacts to cultural resources, will be given due consideration. Federal, State, and local agencies, along with tribes and other stakeholders who may be interested in or affected by the proposed project that the BLM is evaluating, are invited to participate in the scoping process and, if eligible, may request or be asked by the BLM to participate in the development of the EIS as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jon D. Sherve,
Field Manager, Mount Lewis Field Office.

[FR Doc. 2020-15174 Filed 7-13-20; 8:45 am]

BILLING CODE 4310-HC-P